POSTAL RATE COMMISSION

Sunshine Act Meeting

NAME OF AGENCY: Postal Rate Commission.

TIME AND DATE: 11:30 a.m., July 21, 2000.

PLACE: Commission conference room, 1333 H Street, NW., Suite 300, Washington, DC 20268-0001.

STATUS: Closed.

MATTERS TO BE CONSIDERED: Annual budget submission for fiscal year 2001.

CONTACT PERSON FOR MORE INFORMATION: Stephen L. Sharfman, General Counsel, Postal Rate Commission, Suite 300, 1333 H Street, NW., Washington, DC 20268-0001, 202-789-6820.

Dated: July 17, 2000.
Margaret P. Crenshaw,
Secretary.

[FR Doc. 00-18481 Filed 7-17-00; 5:00 pm]

BILLING CODE 7710-FW-M